DEPARTMENT OF THE INTERIOR

Bureau of Land Management

[AZ-420-5700-ES; AZA 33431]

Notice of Realty Action; Recreation and Public Purposes (R&PP) Act Classification; Arizona

AGENCY: Bureau of Land Management, Interior.

ACTION: Notice.

SUMMARY: The following public lands in Pinal County, Arizona, have been examined and found suitable for classification for lease or conveyance to the city of Casa Grande under the provisions of the Recreation and Public Purposes Act, as amended, 43 U.S.C. 869 et seq., and under sec. 7 of the Taylor Grazing Act, 43 U.S.C. 315f, and E.O. 6910.

Gila and Salt River Meridian, Arizona

T. 7 S., R. 6 E.,

Sec. 26, N½ NW¼.

The area described contains 80 acres in Pinal County.

The city of Case Grande has not applied for more than the 6,400 acre limitation for recreation uses in a year.

The city of Casa Grande has submitted a statement in compliance with the regulations at 43 CFR 2741.4(b). The city of Casa Grande proposes to use the lands as an extension to a proposed city mountain park. The park, when developed, will have hiking and equestrian trails, trailheads, and public facilities. The public lands will link to the City's proposed mountain park that will contain hiking and equestrian trails, trailheads, and public facilities. The City envisions hosting field trips and having educational programs for several local school districts. The city has not requested more land than is needed for their development and management plans.

DATES: Submit comments on or before May 11, 2007.

ADDRESSES: Detailed information including but not limited to, a proposed development plan and documentation relating to compliance with applicable environmental and cultural resource laws, is available for review at the Bureau of Land Management, Tucson Field Office, 12661 East Broadway Boulevard, Tucson, Arizona 85748-7208.

FOR FURTHER INFORMATION CONTACT: Susan Bernal, Realty Specialist, at (520) 258-7206; e-mail address susan_bernal@blm.gov.

SUPPLEMENTARY INFORMATION: The lands are not needed for any Federal purposes.

Lease or conveyance of the lands for recreational or public purposes use is consistent with the Phoenix District Resource Management Plan, dated September 29, 1989, and would be in the public interest.

All interest parties will receive a copy of this notice once it is published in the Federal Register. The notice will be published in the newspaper of local circulation for three consecutive weeks. The regulations do not require a public meeting.

Upon publication of this notice in the Federal Register, the lands will be segregated from all other forms of appropriation under the public land laws, including the general mining laws, except for lease or conveyance under the Recreation and Public Purposes Act and leasing under the mineral leasing laws.

The lease or conveyance of the lands, when issued, will be subject to the following terms, conditions, and reservations:

1. A right-of-way thereon for ditches and canals constructed by the authority of the United States. Act of August 30, 1890, 26 Stat. 391 (43 U.S.C. 945).

2. Provisions of the Recreation and Public Purposes Act and to all applicable regulations of the Secretary of the Interior.

3. All minerals shall be reserved to the United States, together with the right to prospect for, mine and remove the minerals.

4. All valid existing rights documented on the official public land records at the time of lease/patent issuance.

5. A right-of-way authorized under the Act of October 21, 1976 (90 Stat. 2776; 43 U.S.C. 1761) for a road to the City of Casa Grande, (AZA 27190) affecting public lands within sec. 26, T. 7 S., R. 6 E.

6. A right-of-way authorized under the Act of January 13, 1916 (44 LD 513) for an aerial camera calibration range to the Bureau of Land Management, (AZA 1182) affecting public lands within sec. 26, T. 7 S., R. 6 E.

7. CERCLA Term: “Pursuant to the requirements established by section 120(h) of the Comprehensive Environmental Response, Compensation and Liability Act, (42 U.S.C. 9620(h)) (CERCLA), as amended by the Superfund Amendments and Reauthorization Act of 1988, (100 Stat. 1670) notice is hereby given that the above-described lands have been examined and no evidence was found to indicate that any hazardous substances had been stored for one year or more, nor had any hazardous substances been disposed of or released on the subject property.”

8. Indemnification Term: “All lessees or Purchasers/patentees, by accepting a lease or patent, covenant and agree to indemnify, defend, and hold the United States harmless of any costs, damages, claims, causes of action, penalties, fines, liabilities, and judgments of any kind or nature arising from the past, present, and future acts or omissions of the lessees or patentees or their employees, agents, contractors, lessees, or any third-party, arising out of or in connection with the lessee's or patentee's use, occupancy, or operations on the leased or patented real property. This indemnification and hold harmless agreement includes, but is not limited to, acts and omissions of the lessees or patentees and their employees, agents, contractors, or lessees, or any third party, arising out of or in connection with the use and/or occupancy of the patented real property which has already resulted or does hereafter result in: (1) Violations of Federal, state and local laws and regulations that are now or may in the future become, applicable to the real property; (2) Judgments, claims or demands of any kind assessed against the United States; (3) Costs, expenses, or damages of any kind incurred by the United States; (4) Releases or threatened releases of solid or hazardous waste(s), and/or hazardous substance(s), as defined by Federal or state environmental laws, off, on, into or under land, property and other interests of the United States; (5) Activities by which solid waste or hazardous substance(s) or waste, as defined by Federal and state environmental laws are generated, released, stored, used or otherwise disposed of on the leased or patented real property, and any cleanup response, remedial action or other actions related in any manner to said solid or hazardous substances(s) or waste(s); or (6) Natural resource damages as defined by Federal and state law. This covenant shall be construed as running with the parcels of land patented or otherwise conveyed by the United States, and may be enforced by the United States in a court of competent jurisdiction.

Classification Comments: Interested persons may submit comments involving the suitability of the land for development of a mountain park. Comments on the classification are restricted to whether the land is physically suited for the proposal, whether the use will maximize the future use or uses of the land, whether the use is consistent with local planning and zoning, or if the use is consistent with state and federal programs.

Application Comments: Interested persons may submit comments regarding the specific use proposed in the application and plan of development, whether the BLM followed proper administrative procedures in reaching the decision, or any other factor not directly related to the suitability of the lands for a mountain park. Any adverse comments will be reviewed by the State Director. In the absence of any adverse comments, the classification will become effective on May 29, 2007. The lands will not be offered for conveyance until after the classification becomes effective.

Before including your address, phone number, e-mail address, or other personal identifying information in your comment, be advised that your entire comment—including your personal identifying information—may be made publicly available at any time. While you can ask us in your comment to withhold from public review your personal identifying information, we cannot guarantee that we will be able to do so.

Authority: 43 Code of Federal Regulations (CFR) 2741.5.

Dated: February 20, 2007.
Cindy Alvarez,
Acting Field Office Manager.

[FR Doc. E7-5539 Filed 3-26-07; 8:45 am]

BILLING CODE 4310-32-P